DEPARTMENT OF HEALTH AND HUMAN SERVICES

Administration for Community Living

Agency Information Collection Activities; Proposed Collection; Public Comment Request; Proposed Extension With Modifications of a Currently Approved Collection; National Survey of Older Americans Act Participants; Correction

AGENCY: Administration for Community Living, HHS.

ACTION: Notice of correction.

SUMMARY: The Administration for Community Living published a proposed collection of information document in the Federal Register on March 13, 2017 (82 FR 13457 and 13458). The Web page link where the proposed information collection entitled the National Survey of Older Americans Act Participants 2017 Draft could be found is no longer functional as of Thursday May 4, 2017, due to an update of the ACL.gov Web site.

FOR FURTHER INFORMATION CONTACT: Heather Menne at 202-795-7733 or Heather.Menne@acl.hhs.gov.

SUPPLEMENTARY INFORMATION:

Correction

For the remainder of the public comment period through May 12, 2017, the proposed information collection entitled the National Survey of Older Americans Act Participants 2017 Draft can be found at: https://acl.gov/NewsRoom/Index.aspx.

Dated: April 28, 2017.
Daniel P. Berger,
Acting Administrator and Assistant Secretary for Aging.

[FR Doc. 2017-09022 Filed 5-3-17; 8:45 am]

BILLING CODE 4154-01-P